DEPARTMENT OF JUSTICE

Office of Justice Programs

Agency Information Collection Activities: Proposed Collection; Comments Requested

ACTION: 30-Day notice of information collection under review: Reinstatement, with change, of a previously approved collection for which approval has expired; fiscal year 2003 State Domestic Preparedness Program.

The Department of Justice (DOJ), Office of Justice Programs has submitted the following information collection request to the Office of Management and Budget (OMB) for review and approval in accordance with the Paperwork Reduction Act of 1995. The proposed information collection is published to obtain comments from the public and affected agencies. This proposed information collection was previously published in the Federal Register Volume 67, Number 247, page 78508 on December 24, 2002, allowing for a 60 day comment period.

The purpose of this notice is to allow for an additional 30 days for public comment until April 10, 2003. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: Reinstatement, with change, of a previously approved collection for which approval has expired.

(2) The title of form/collection: Fiscal Year 2003 State Domestic Preparedness Program.

(3) The agency form number, if any, the applicable component of the Department sponsoring the collection: U.S. Department of Justice (DOJ), Office of Justice Program (OJP), Office for Domestic Preparedness (ODP).

(4) Affected Public who will be asked or required to respond, as well as a brief abstract: Primary: Federal Government, State, and Local. Section 1404 of the Defense Against Weapons of Mass Destruction Act of 1998 (Title XIV of Pub. L. 105-261; 50 U.S.C. 2301) as amended by Section 1064 of the National Defense Authorization Act of 2000 (Title X of Pub. L. 106-65; 50 U.S.C. 2301) authorizes the Department of Justice to collect information from state and local jurisdictions to assess the threat and risk of terrorist employment of weapons of mass destruction against cities and other local areas. This data collection will allow states to: (1) Report current jurisdictional needs for equipment, training, exercises and technical assistance; (2) forecast projected needs for this support; and (3) identify the gaps that exist at the jurisdictional level in equipment, training, exercises, and technical assistance that OJP/ODP and other federal funding will be used to address. Additionally, the information collection will guide OJP/ODP and other federal agencies in the formulation of domestic preparedness policies and with the development of programs to enhance state and local first responder capabilities.

(5) An estimate of the total number of respondents and the amount of time estimated for an average respondent to respond/reply: The estimated total number of respondents is 2,059. The data collection being proposed incorporates a terrorist threat and vulnerability assessment, and a needs and capabilities assessment for equipment, training, exercises and technical assistance. Information will be collected by approximately 2,003 local jurisdictions from representatives of law enforcement, fire services, Hazardous Materials response agencies, public safety communications, public health agencies, emergency medical services, public works, government/administrative agencies, health care, and emergency management agencies. In addition, a state administrative agency (SAA) in each state and territory (56 total) will roll-up the data submitted by all of the local jurisdictions in the state or territory and submit this consolidated state information to OJP/ODP. Local jurisdictions completing these assessments may experience an estimated burden of 6 hours to collect, tabulate and input data provided to the state. Once the local information is received by the SAA, the SAA may experience an estimated burden of 4 hours for data input and electronic submission of the data to OJP/ODP.

(6) An estimate of the total public burden (in hours) associated with the collection: The estimated total public burden associated with this information collection will be approximately 12,242 hours.

If additional information is required contact: Mrs. Brenda E. Dyer, Deputy Clearance Officer, United States Department of Justice, Information Management and Security Staff, Justice Management Division, Suite 1600, Patrick Henry Building, 601 D Street NW., Washington, DC 20530.

Dated: March 5, 2003.
Brenda E. Dyer,
Department Deputy Clearance Officer, United States Department of Justice.

[FR Doc. 03-5673 Filed 3-10-03; 8:45 am]

BILLING CODE 4410-18-M